DEPARTMENT OF STATE

[Public Notice 7695]

60-Day Notice of Proposed Information Collection: Form DS-7007, Summer Work Travel Job Placement Verification Form

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Exchange Visitor Program—Summer Work Travel Job Placement Verification Form.

• OMB Control Number: None.

• Type of Request: New Collection.

• Originating Office: Bureau of Educational and Cultural Affairs, ECA/EC.

• Form Number: Form DS-7007.

• Respondents: Entities designated by the Department of State as Exchange Visitor Program sponsors in the Summer Work Travel category, and U.S. businesses that provide the employment opportunity.

• Estimated Number of Respondents: 51.

• Estimated Number of Responses: 120,000.

• Average Hours per Response: 1 hour.

• Total Estimated Burden: 120,000.

• Frequency: On occasion.

• Obligation to Respond: Mandatory.

DATES: The Department will accept comments from the public up to 60 days from November 28, 2011.

ADDRESSES: You may submit comments identified by any of the following methods:

• Persons with access to the Internet may view and comment on this notice by going to the regulations.gov Web site at http://www.regulations.gov/#!home. You can search by selecting “Notice” under Document Type, enter the Public Notice number, and check “Open for Comment”. Search, and then to view the document, select an Agency.

• Mail (paper, disk, or CD-ROM submissions): U.S. Department of State, Office of Exchange Coordination and Designation, SA-5, 2200 C Street NW., Floor 5, Washington, DC 20522-0505

• Email: jexchanges@state.gov.

You must include the DS form number (if applicable), information collection title, and OMB control number in any correspondence.

FOR FURTHER INFORMATION CONTACT: Rick A. Ruth, Deputy Assistant Secretary, Acting, for Private Sector Exchange, U.S. Department of State, SA-5, Floor 5, 2200 C Street NW., Washington, DC 20522-0505; or email at jexchanges@state.gov.

SUPPLEMENTARY INFORMATION:

We are soliciting public comments to permit the Department to:

• Evaluate whether the proposed information collection is necessary for the effective administration of the Summer Work Travel category of the Exchange Visitor Program.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

This collection of information is needed by the Bureau of Educational and Cultural Affairs in administering the Exchange Visitor Program (J-Visa) under the provisions of the Mutual Educational and Cultural Exchange Act, as amended. Summer Work Travel Job Placement Verification Forms are to be completed by designated program sponsors. A Job Placement Verification Form is required for each Summer Work Travel participant. It will set forth the employer, address of employment site, duties required by the job, whether the Summer Work Travel participant will receive any remuneration for housing and living expenses (and if so, the amount), and estimates of the living expenses and other costs the participants are likely to incur while in the United States. The Form must be signed by the participant, the sponsor, and the third party employer, if a third party organization is used in the conduct of the Summer Work Travel program.

Upon request, Summer Work Travel applicants must present fully executed Job Placement Verification Forms (Form DS-7007) to any Consular Official interviewing them in connection with the issuance of J-1 visas.

Methodology

The collection will be submitted to the Department by mail or fax as requested by the Department of State during the review of program sponsor files, re-designations, incidents, etc.

Dated: October 20, 2011.
Rick A. Ruth,
Deputy Assistant Secretary, Acting, Office of Private Sector Exchange, Bureau of Educational and Cultural Affairs, Department of State.

[FR Doc. 2011-30521 Filed 11-25-11; 8:45 am]

BILLING CODE 4710-05-P